NUCLEAR REGULATORY COMMISSION

[NRC-2010-0080]

NUREG-0654/FEMA-REP-1, Rev. 1, Supplement 3, Guidance for Protective Action Recommendations for General Emergencies; Draft for Comment

AGENCY: Nuclear Regulatory Commission.

ACTION: Draft document: extension of comment period.

SUMMARY: On March 8, 2010, (75 FR 10524), the Nuclear Regulatory Commission (NRC) published for public comment a document entitled: “NUREG-0654/FEMA-REP-1, Rev. 1, Supplement 3, Guidance for Protective Action Recommendations for General Emergencies, Draft Report for Comment.” When this document is issued for use in final form, it will supersede the existing guidance contained in Supplement 3 to NUREG-0654/FEMA-REP-1, Rev. 1, “Criteria for Preparation and Evaluation of Radiological Emergency Response Plans and Preparedness in Support of Nuclear Power Plants,” which was issued in draft form for interim use and guidance in 1996. A 75-day comment period was provided for this draft document, set to expire on May 24, 2010.

DATES: The comment period for the draft document has been extended from the original May 24, 2010, deadline to August 9, 2010. Comments received after this date will be considered if it is practical to do so, but the Commission is able to ensure consideration only for comments received before this date.

ADDRESSES: You may submit comments by any one of the following methods. Please include Docket ID NRC-2010-0080 in the subject line of your comments. Comments submitted in writing or in electronic form will be made available for public inspection. Because your comments will not be edited to remove any identifying or contact information, the NRC cautions you against including any information in your submission that you do not want to be publicly disclosed.

Federal e-Rulemaking Portal: Go to http://www.regulations.gov and search for documents filed under Docket ID [NRC-2010-0080]. Address questions about NRC dockets to Carol Gallagher, telephone (301) 492-3668; e-mail Carol.Gallagher@nrc.gov.

Mail comments to: Chief, Rulemaking, Announcements and Directives Branch (RDB), Division of Administrative Services, Office of Administration, Mail Stop: TWB-05-B01M, U.S. Nuclear Regulatory Commission, Washington, DC 20555-0001, or by fax to RDB at (301) 492-3446.

You can access publicly available documents related to this document using the following methods:

NRC's Public Document Room (PDR): The public may examine and have copied for a fee publicly available documents at the NRC's PDR, Room O-1F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, or (301) 415-4737, or by e-mail to PDR.Resource@nrc.gov. NUREG-0654/FEMA-REP-1, Rev. 1, Supplement 3, “Guidance for Protective Action Recommendations for General Emergencies, Draft Report for Comment” is available electronically under ADAMS Accession Number ML100150268.

FOR FURTHER INFORMATION CONTACT: Randy Sullivan, Office of Nuclear Security and Incident Response, U.S. Nuclear Regulatory Commission, Washington, DC 20555-0001, telephone (301) 415-1123, e-mail: randy.sullivan@nrc.gov.

SUPPLEMENTARY INFORMATION: The NRC received comments from external stakeholders requesting that the public comment period on this draft document be extended. In view of the NRC's desire to receive high quality comments from stakeholders, the comment period for the document will be extended for an additional 75 days. Based on feedback from stakeholders, the NRC believes that a 75-day extension will allow sufficient time for all stakeholders to develop and provide meaningful comments on this document.

The draft document comment submittal deadline is extended from the original May 24, 2010, deadline to August 9, 2010.

Dated at Rockville, Maryland this 11th day of May 2010.
For the Nuclear Regulatory Commission.
Robert E. Kahler,
Chief, Inspection and Regulatory Improvements Branch Division of Preparedness and Response, Office of Nuclear Security and Incident Response.

[FR Doc. 2010-11842 Filed 5-17-10; 8:45 am]

BILLING CODE 7590-01-P